ENVIRONMENTAL PROTECTION AGENCY

[FRL-9948-52-Region 6]

Adequacy Status of the Baton Rouge, Louisiana Maintenance Plan 8-Hour Ozone Motor Vehicle Emission Budgets for Transportation Conformity Purposes

AGENCY: Environmental Protection Agency (EPA).

ACTION: Notice of adequacy.

SUMMARY: The Environmental Protection Agency (EPA) is notifying the public that it has found that the motor vehicle emissions budgets (MVEBs) in the Baton Rouge, Louisiana 2008 8-hour Ozone National Ambient Air Quality Standard (NAAQS) Maintenance Plan State Implementation Plan (SIP) revision, submitted on May 2, 2016 by the Louisiana Department of Environmental Quality (LDEQ) are adequate for transportation conformity purposes. As a result of EPA's finding, the Baton Rouge area must use these budgets for future conformity determinations.

DATES: These budgets are effective July 14, 2016.

FOR FURTHER INFORMATION CONTACT: The essential information in this notice will be available at EPA's conformity Web site: http://www.epa.gov/otaq/stateresources/transconf/adequacy.htm. You may also contact Mr. Jeffrey Riley, Air Planning Section (6MM-AA), U.S. Environmental Protection Agency, Region 6, 1445 Ross Avenue, Dallas, Texas 75202-2733, telephone (214) 665-8542, Email address: Riley.Jeffrey@epa.gov.

SUPPLEMENTARY INFORMATION: Throughout this document “we,” “us,” and “our” refers to EPA. The word “budget(s)” refers to the mobile source emissions budget for volatile organic compounds (VOCs) and the mobile source emissions budget for nitrogen oxides (NOX).

On May 2, 2016, we received a SIP revision from the LDEQ. This revision consisted of a 2008 8-hour ozone NAAQS redesignation request and maintenance plan SIP for the Baton Rouge area. This submission established MVEBs for the Baton Rouge area for the years 2022 and 2027. The MVEB is the amount of emissions allowed in the state implementation plan for on-road motor vehicles; it establishes an emissions ceiling for the regional transportation network. The MVEBs are provided in Table 1:

Table 1—Baton Rouge Maintenance Plan NOX and VOC MVEBS
[Summer season tons per day]
| 2022 | 2027
NOX | 14.37 | 10.95
VOC | 13.19 | 11.55

On May 6, 2016, EPA posted the availability of the Baton Rouge area MVEBs on EPA's Web site for the purpose of soliciting public comments, as part of the adequacy process pursuant to 40 CFR 93.118(e)(4). The comment period closed on June 6, 2016, and we received no comments.

Today's notice is simply an announcement of a finding that EPA has already made. EPA Region 6 sent a letter to LDEQ on June 13, 2016, finding that the MVEBs in the Baton Rouge Maintenance Plan SIP, submitted on May 2, 2016 are adequate and must be used for transportation conformity determinations in the Baton Rouge area. This finding has also been announced on EPA's conformity Web site: http://www.epa.gov/otaq/stateresources/transconf/adequacy.htm.

Transportation conformity is required by section 176(c) of the Clean Air Act. EPA's conformity rule, 40 Code of Federal Regulations (CFR) part 93, requires that transportation plans, programs and projects conform to state air quality implementation plans and establishes the criteria and procedures for determining whether or not they do so. Conformity to a SIP means that transportation activities will not produce new air quality violations, worsen existing violations, or delay timely attainment of the national ambient air quality standards.

The criteria by which EPA determines whether a SIP's MVEB is adequate for transportation conformity purposes are outlined in 40 CFR 93.118(e)(4). We have also described the process for determining the adequacy of submitted SIP budgets in our July 1, 2004, final rulemaking entitled, “Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it should not be used to prejudge EPA's ultimate approval of the Baton Rouge Maintenance Plan SIP revision submittal. Even if EPA finds the budgets adequate, the Baton Rouge Maintenance Plan SIP revision submittal could later be disapproved.

These new MVEBs are effective July 14, 2016. Within 24 months from the effective date of this notice, the Baton Rouge area transportation partners, such as the Capital Region Planning Commission, will need to demonstrate conformity to the new MVEBs if the demonstration has not already been made, pursuant to 40 CFR 93.104(e). See 73 FR 4419 (January 24, 2008).

Authority: 42 U.S.C. 7401 et seq.

Dated: June 17, 2016.
Ron Curry,
Regional Administrator, Region 6.

[FR Doc. 2016-15408 Filed 6-28-16; 8:45 am]

BILLING CODE 6560-50-P